FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012146-001.

Title: HLAG/HSDG USWC-Mediterranean Vessel Sharing Agreement.

Parties: Hapag-Lloyd AG and Hamburg Sud.

Filing Party: Wayne Rohde, Cozen O'Connor; 1200 19th Street NW., Washington, DC 20036.

Synopsis: The amendment adds Guatemala to the geographic scope of the Agreement.

Agreement No.: 012473.

Title: CMA CGM/COSCO SHIPPING Slot Exchange Agreement, China-U.S. West Coast.

Parties: CMA CGM S.A. and COSCO SHIPPING Lines Co., Ltd.

Filing Party: Draughn Arbona; CMA CGM (America) LLC; 5701 Lake Wright Drive; Norfolk, VA 23502.

Synopsis: This agreement authorizes CMA CGM S.A. and COSCO SHIPPING Lines Co. Ltd. to charter space to each other in the trade between China (including Hong Kong) and the West Coast of the United States.

Agreement No.: 012474.

Title: NYK/ELJSA Space Charter Agreement.

Parties: Nippon Yusen Kaisha and the Evergreen Line Joint Service Agreement.

Filing Party: Joshua Stein; Cozen O'Connor; 1200 19th Street NW., Washington, DC 20036.

Synopsis: The Agreement authorizes NYK to charter space to ELJSA in the trade between the U.S. and Japan and also authorizes the parties to enter into arrangements related to the chartering of such space.

By Order of the Federal Maritime Commission.
Dated: March 17, 2017.
Rachel E. Dickon,
Assistant Secretary.

[FR Doc. 2017-05711 Filed 3-21-17; 8:45 am]

BILLING CODE 6731-AA-P